DEPARTMENT OF COMMERCE

International Trade Administration

(A-570-848)

Freshwater Crawfish Tail Meat from the People's Republic of China; Notice of Rescission of Antidumping Duty New Shipper Review

AGENCY: Import Administration, International Trade Administration, Department of Commerce.

EFFECTIVE DATE: August 6, 2007.

FOR FURTHER INFORMATION CONTACT: Howard Smith or Jeff Pedersen, AD/CVD Operations, Office 4, Import Administration, International Trade Administration, U.S. Department of Commerce, 14th Street and Constitution Avenue, NW., Washington, DC 20230; telephone: (202) 482-5193 and (202) 482-2769, respectively.

SUPPLEMENTARY INFORMATION:

Background

On October 30, 2006, the Department of Commerce (Department) published a notice of initiation of four new shipper reviews of the antidumping duty order on freshwater crawfish tail meat from the People's Republic of China (PRC), covering the period September 1, 2005, through August 31, 2006. See Freshwater Crawfish Tail Meat From the People's Republic of China: Initiation of Antidumping Duty New Shipper Reviews, 71 FR 63284 (October 30, 2006). One of the four new shipper reviews covers Shanghai Now Again International Trading Co., Ltd. (Shanghai Now Again), an exporter of subject merchandise. On March 26, 2007, Shanghai Now Again withdrew its request for a new shipper review. Shanghai Now Again explained that the U.S. Food and Drug Administration (FDA) had recently rejected its only entry of subject merchandise made during the period of review. Shanghai Now Again stated that, since the FDA's rejection resulted in no sale being made during the period of review, it was withdrawing its request for a new shipper review. No other party requested a new shipper review of Shanghai Now Again.

Rescission of Review

19 CFR 351.214(f)(1) provides that the Department may rescind a new shipper review if the party that requested the review withdraws its request for review within 60 days of the date of publication of the notice of initiation of the requested review. Although Shanghai Now Again withdrew its request after the 60-day deadline, we find it reasonable to accept the withdrawal because we have not yet committed significant resources to the new shipper review of Shanghai Now Again. Specifically, we have not calculated a preliminary margin for Shanghai Now Again nor have we verified Shanghai Now Again's data. Further, no party has opposed Shanghai Now Again's withdrawal from this review. For these reasons, we are rescinding the 2005-2006 new shipper review of the antidumping duty order on freshwater crawfish tail meat from the PRC with respect to Shanghai Now Again in accordance with 19 CFR 351.214(f)(1).

Assessment

The Department will instruct Customs and Border Protection (CBP) to assess antidumping duties on all appropriate entries. For Shanghai Now Again, antidumping duties shall be assessed at a rate equal to the cash deposit of estimated antidumping duties required at the time of entry, or withdrawal from warehouse, for consumption, in accordance with 19 CFR 351.212(c)(1)(i). The Department will issue liquidation instructions to CBP 15 days after the publication of this notice.

Dated: July 30, 2007.
Stephen J. Claeys,
Deputy Assistant Secretary for Import Administration.

[FR Doc. E7-15214 Filed 8-3-07; 8:45 am]

BILLING CODE 3510-DS-S